DEPARTMENT OF AGRICULTURE

Notice of Request for an Extension or Renewal of a Currently Approved Information Collection

AGENCY: Office of the Assistant Secretary for Civil Rights, Department of Agriculture.

ACTION: Notice and request for comments.

SUMMARY: In accordance with the Paperwork Reduction Act of 1995, this notice announces the intention of the Office of the Assistant Secretary for Civil Rights (OASCR) to request a renewal of a currently approved information collection. OASCR will use the information collected to process Respondents' discrimination complaints about programs conducted or assisted by USDA.

DATES: Comments on this notice must be received by October 24, 2017 to be assured of consideration.

ADDRESSES: Office of the Assistant Secretary for Civil Rights/Office of Compliance, Policy, and Training invites interested persons to submit comments on this notice. Comments may be submitted by one of the following methods:

Federal eRulemaking Portal: This Web site provides the ability to type short comments directly into the comment field on this Web page or attach a file for lengthier comments. Go to http://www.regulations.gov. Follow the on-line instructions at that site for submitting comments.

Mail, including CD-ROMs, etc.: Send to Docket Clerk, 1400 Independence Avenue SW., Washington, DC 20250-3700, Mailstop 9401.

Hand- or courier-delivered submittals: Deliver to 1400 Independence Avenue SW., Washington, DC 20250-3700, Mailstop 9401.

Instructions: All items submitted by mail or electronic mail must include the Office of the Assistant Secretary for Civil Rights/Office of Compliance, Policy, and Training, Docket No. 0508-0002, Comments received in response to this docket will be made available for public inspection and posted without change, including any personal information, to http://www.regulations.gov.

Docket: For access to background documents or comments received, go to the Office of the Assistant Secretary for Civil Rights/Office of Compliance, Policy, and Training, Docket Room at 1400 Independence Avenue SW., Washington, DC 20250-3700, Mailstop 9401, between 8:00 a.m. and 4:30 p.m., Monday through Friday.

FOR FURTHER INFORMATION CONTACT: Contact Anna G. Stroman, Deputy Director, Office of Compliance, Policy, and Training, Office of the Assistant Secretary for Civil Rights, U.S. Department of Agriculture, 1400 Independence Avenue SW., Washington, DC 20250, (202) 205-5953 or Anna.Stroman@ascr.usda.gov.

SUPPLEMENTARY INFORMATION:

Title: USDA Program Discrimination Complaint Form.

OMB Number: OMB No. 0508-0002.

Expiration Date of Approval: December 31, 2017.

Type of Request: Extension or renewal of the USDA Program Discrimination Complaint Form.

Abstract: Under 7 CFR 15.6, “Any person who believes himself/herself or any specific class of individuals to be subjected to discrimination [in any USDA assisted program or activity] * * * may by himself/herself or by an authorized representative file * * * a written complaint.” Under 7 CFR 15d.4, “Any person who believes that he or she (or any specific class of individuals) has been, or is being, subjected to [discrimination in any USDA conducted program or activity] * * * may file on his or her own, or through an authorized representative, a written complaint alleging such discrimination.” The collection of this information is an avenue by which the individual or his representative may file such a program discrimination complaint.

The requested information, which can be submitted by filling out a form or by submitting a letter, is necessary in order for USDA OASCR to address the alleged discriminatory action. The Respondent is asked to state his/her name, mailing address, property address (if different from mailing address), telephone number, email address (if any) and to provide a name and contact information for the Respondent's representative (if any). A brief description of who was involved with the alleged discriminatory action, what occurred and when, is requested. In the event that the Respondent is filing the program discrimination complaint more than 180 days after the alleged discrimination occurred, the Respondent is asked to provide the reason for the delay.

Finally, the Respondent is asked to identify which bases are alleged to have motivated the discriminatory action. The form explains that laws and regulations prohibit on the bases of race, color, national origin, age, sex, gender identity (including gender expression), disability, religion, sexual orientation, marital or familial status, or because all or part of the individual's income is derived from any public assistance program, but that not all bases apply to all programs.

The program discrimination complaint filing information, which is voluntarily provided by the Respondent, will be used by the staff of USDA OASCR to intake, investigate, resolve, and/or adjudicate the Respondent's complaint. The program discrimination complaint form will enable OASCR to better collect information from complainants in a timely manner, therefore, reducing delays and errors in determining USDA jurisdiction.

Estimate of Burden: Public reporting burden for this collection of information is estimated to average one hour per response.

Respondents: Producers, applicants, and USDA customers.

Estimated Number of Respondents: 141.

Estimated Number of Responses per Respondent: 1.

Estimated Total Annual Burden on Respondents: 141 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Anna G. Stroman, Deputy Director, Office of Compliance, Policy, and Training, Office of the Assistant Secretary for Civil Rights. All comments received will be available for public inspection during regular business hours at the same address.

All responses to this notice will be summarized and included in the request for Office of Management and Budget approval. All comments will become a matter of public record.

Winona Lake Scott,
Acting Deputy Assistant Secretary for Civil Rights, Office of the Assistant Secretary for Civil Rights.

[FR Doc. 2017-18021 Filed 8-24-17; 8:45 am]

BILLING CODE P